DEPARTMENT OF LABOR

Employment and Training Administration

[TA-W-64,798]

Maverick Tube LLC, dba Tenaris Hickman, Blytheville, AR; Notice of Termination of Investigation

Pursuant to Section 221 of the Trade Act of 1974, as amended, an investigation was initiated on December 31, 2008, in response to a worker petition filed by the State of Arkansas on behalf of workers at Maverick Tube LLC, dba TenarisHickman, Blytheville, Arkansas.

The petitioner has requested that the petition be withdrawn. Consequently, the investigation has been terminated.

Signed at Washington, DC this 12th day of March 2009.
Elliott S. Kushner,
Certifying Officer, Division of Trade Adjustment Assistance.

[FR Doc. E9-6291 Filed 3-23-09; 8:45 am]

BILLING CODE 4510-FN-P